DEPARTMENT OF TRANSPORTATION

Federal Aviation Administration

Commercial Space Transportation Grants Program

AGENCY: Federal Aviation Administration (FAA), DOT.

ACTION: Notice of request for grant proposals for the Commercial Space Transportation Grant Program.

SUMMARY: This notice solicits Fiscal Year (FY) 2011 grant proposals to continue the development of a Commercial Space Transportation infrastructure system, which supports the National Space Policy and Congressional intent. Begun in 2010, the program supports the Commercial Space Transportation industry by identification, prioritization, and funding for Commercial Space Transportation infrastructure projects.

It must be noted that with the FY 2011 Congressional appropriation not yet enacted, the FAA's Office of Commercial Space Transportation (AST) does not currently have funding for the Commercial Space Transportation Grants Program. Should there be an appropriation for the Commercial Space Transportation Grants Program; the FAA/AST intends to swiftly execute grant awards within FY 2011. To facilitate this, the FAA/AST is requesting grant applications at this time. The FAA/AST intends to receive, process, and evaluate the applications in a timely manner, and in accordance with the notional schedule listed below, so should there be an appropriation, the recipients will already be selected and the awards can be made within FY 2011. There remains the possibility that no funds will be appropriated in FY 2011 for the Commercial Space Transportation Grants Program. If no funds are appropriated, no grant applications submitted in response to this Notice will be approved and funded.

Due to time constraints, this Notice will be the only solicitation made for FY 2011 projects and proposals. The FAA/AST will review and evaluate all applications for a grant received by the deadline, pursuant to 49 United States Code (U.S.C.) Chapter 703 (to be recodified at 51 U.S.C. Chapter 511). The FAA/AST may make one or more grant awards based upon its evaluations of the submissions. All grants awarded under the Commercial Space Transportation Grants Program are discretionary awards. Projects to be funded under the Commercial Space Transportation Grants Program must carry out commercial space transportation infrastructure development, as defined in 49 U.S.C. 70301 (to be recodified as 51 U.S.C. 51101).

DATES: In order for the FAA/AST to award funds (if appropriated) prior to the end of FY 2011, the following notional schedule is provided.

Submission Open Period Opens: March 18, 2011

Submission Open Period Closes: May 13, 2011

Review and Approval Period: May 16, 2011 thru June 30, 2011

Announcement: July 15, 2011

ADDRESSES: Applicants can get more information about the Commercial Space Transportation Grants Program, to include a checklist for the submission package, by:

1. Accessing the Office of Commercial Space Transportation website at: http://www.faa.gov/go/ast; or

2. Contacting Glenn Rizner or Julie Price, AST-100, for program questions; or

3. Contacting Greg Carter, AGC-510, for legal questions.

| Office | Fax | E-mail
Glenn Rizner | 202-267-3194 | 202-267-5463 | Glenn.H.Rizner@faa.gov.
Julie Price | 202-493-5486 | 202-267-5463 | Julie.Price@faa.gov.
Greg Carter | 202-267-3186 | 202-267-5261 | Greg.Carter@faa.gov.

SUPPLEMENTARY INFORMATION:

Background

The Commercial Space Transportation Grants Program is intended to “ensure the resiliency of the space transportation infrastructure in the United States.” To help further establish United States' Commercial Space Transportation-related goals, Congress established a Space Transportation Infrastructure Grants Program codified under 49 U.S.C. Chapter 703—Space Transportation Infrastructure Matching Grants. Congressional authorization was established FY 1994 for the use of Federal monies to fund up to fifty percent (50%) of total project cost in conjunction with state and local government funding. The legislation also requires a minimum of ten percent (10%) of the total project cost come from private funding. The first Congressional appropriation for the Commercial Space Transportation Grants Program came in FY 2010.

The FAA/AST reviews, evaluates, and oversees the Commercial Space Transportation Grants Program. Notionally, the award of the grant monies will be on or about July 15, 2011. To meet this award date, applicants must submit their grant proposals on or before May 13, 2011. Additional information related to the Commercial Space Transportation Grants Program can be found at the Office of Commercial Space Transportation website or by contacting one of the Points of Contacts; this information is listed above.

The Commercial Space Transportation Grants Program

To meet the intent of the program, development projects eligible for funding include:

1. Technical and environmental studies; or

2. Construction, improvement, design, and engineering of space transportation infrastructure (including facilities and associated equipment).

The Commercial Space Transportation Grants Program will not fund more than 50% of the total project cost, and project financing must include a private component of at least 10% of the total project cost.

Given that the FAA/AST may award multiple grants, applicants may submit multiple grant proposals, provided they are for separate projects and meet the matching requirements independently.

Environmental Requirements

Approval of grant funding is a major federal action subject to review under the National Environmental Policy Act (NEPA) of 1969, 42 U.S.C. 4321 et seq., as implemented by the regulations of the Council on Environmental Quality at 40 CFR part 1500 and FAA Order 1050.1E, and other Federal environmental laws. Because of this, the FAA anticipates that it may be most cost-effective for applicants who have already undergone NEPA review to apply for a grant this fiscal year.

In order for a launch site to receive a license to operate, a NEPA review will already have been conducted. The launch site operator could seek a grant for projects that the FAA considered as part of that license. Although having a license is not a requirement for a grant award, the environmental requirements may already be met for launch sites with a license.

Under 49 U.S.C. 70304 (to be recodified as 51 U.S.C. 51104), infrastructure development projects selected for a Commercial Space Transportation Grant must meet three additional environmental requirements:

1. The project must provide for the protection and enhancement of the natural resources and the quality of the environment of the United States. Specifically, if a project will have a significant, adverse environmental impact, the FAA/AST shall approve the grant application only after finding that no feasible and prudent alternative to the project exists and that all reasonable steps have been taken to minimize the adverse effect.

2. The sponsor must certify that an opportunity for a public hearing has been provided to consider the economic, social, and environmental impacts of the project and its consistency with the goals of any planning carried out by the community.

3. The Governor of the State in which the project is located, or his/her designee, must certify that there is reasonable assurance the project will be located, designed, constructed, and operated to comply with applicable air and water quality standards.

Planning projects, such as technical and environmental studies, normally qualify for categorical exclusion (CATEX) under NEPA and would not trigger the requirements listed above. If, the project normally qualifies for a CATEX from environmental review, the grant proposal should reference the relevant paragraph in FAA Order 1050.1E, Policies and Procedures from Considering Environmental Impacts, and address whether extraordinary circumstances exist that warrant preparation of an environmental assessment (EA) or environmental impact statement (EIS).

For more details about the environmental review for commercial space transportation activities, please see Guidelines for Compliance with the National Environmental Policy Act and Related Environmental Review Statutes for the Licensing of Commercial Launches and Launch Sites at http://www.faa.gov/about/office_org/headquarters_offices/ast/environmental/review.

Who May Apply for a Commercial Space Transportation Grant

The FAA/AST may make project grant awards to “sponsors,” per 49 U.S.C. 70302 (to be recodified as 51 U.S.C. 51102). Per 49 U.S.C. 70301(6) (to be recodified as 51 U.S.C. 51101(6)), a “sponsor” is a public agency that submits an application for a project grant. Per 49 U.S.C. 70301(5) (to be recodified as 51 U.S.C. 51101(5)), a “public agency” is a State or agency of a State, a political subdivision of a State, or a tax-supported organization.

Grant Award

The FAA/AST intends to award Commercial Space Transportation Grants on or about July 15, 2011. An FAA/AST grant offer letter may contain requirements for assurances to ensure the grants are consistent with 49 U.S.C. Chapter 703 (to be recodified as 51 U.S.C. Chapter 511).

How To Apply for a Commercial Space Transportation Grant

The application submission must include the following:

1. Cover letter, signed by public agency senior official, demonstrating the legal authority to engage in the project.

2. Detail as to how the proposed grant project meets the requirements of Chapter 703 (recodified as Chapter 703):

a. Documentation demonstrating authority as a public agency.

b. Demonstration that the grant will not be for more than 50% of the total cost of the project.

c. Letter(s) of Commitment from the private sector for at least 10% of the total cost of the project

d. Detailed description of the project

e. Contributions to capabilities that serve the United States' space transportation needs

f. Impacts on the competitiveness of the United States space transportation industry

g. Discussion of environmental considerations, if applicable

3. Consent from the head of the appropriate agency, should the project use Government property (land, equipment, etc.)

4. SF-424, Application for Federal Assistance (OMB Number 4040-0004)

5. One of the following:

a. SF-424A for non-construction proposals

b. SF-424C for construction proposals

The forms request specific applicant information, project information, and an estimate of the funding and duration of the project. They are available at http://www.grants.gov.

Applicants for the Commercial Space Transportation Grants Program must submit grant applications to the FAA/AST. Applicants must submit an original copy of the completed grant proposal, plus four additional copies. One copy (not the original) may be submitted electronically to Mr. Glenn Rizner at Glenn.H.Rizner@faa.gov and Ms. Julie Price at Julie.Price@faa.gov, however the original and additional copies must be submitted to: Federal Aviation Administration, Office of Commercial Space Transportation, AST-100, c/o Mr. Glenn Rizner or Ms. Julie Price, 800 Independence Avenue, SW., Suite 325, Washington, DC 20591.

Should one copy be submitted electronically, a time stamp will be recorded for the submission. The original and all other copies must reach the office on or before 12 p.m. (noon), Eastern Time, Friday, May 13, 2011. Should no copy be submitted electronically, the original and additional copies still must reach the office on or before 12 p.m. (noon), Eastern Time, Friday, May 13, 2011. There will be no allowance for extensions of time.

Previously submitted grant applications do not carry over and will not be considered. Applicants must resubmit past projects for consideration in the new fiscal year.

Issued in Washington, DC, March 10, 2011.
George C. Nield,
Associate Administrator for Commercial Space Transportation.

[FR Doc. 2011-6325 Filed 3-17-11; 8:45 am]

BILLING CODE 4910-13-P